ENVIRONMENTAL PROTECTION AGENCY

[EPA-HQ-OAR-2009-0022; FRL-9983-64-OEI]

Information Collection Request Submitted to OMB for Review and Approval; Comment Request; Acid Rain Program (Renewal)

AGENCY: Environmental Protection Agency (EPA).

ACTION: Notice.

SUMMARY: The Environmental Protection Agency (EPA) has submitted an information collection request (ICR), Acid Rain Program (EPA ICR No. 1633.17, OMB Control No. 2060-0258) to the Office of Management and Budget (OMB) for review and approval in accordance with the Paperwork Reduction Act. This is a proposed extension of the ICR, which is currently approved through November 30, 2018. Public comments were previously requested via the Federal Register on June 6, 2018 during a 60-day comment period. This notice allows for an additional 30 days for public comments. A fuller description of the ICR is given below, including its estimated burden and cost to the public. An agency may not conduct or sponsor and a person is not required to respond to a collection of information unless it displays a currently valid OMB control number.

DATES: Additional comments may be submitted on or before December 13, 2018.

ADDRESSES: Submit your comments, referencing Docket ID Number EPA-HQ-OAR-2009-0022, to (1) EPA online using www.regulations.gov (our preferred method), by email to a-and-r-Docket@epa.gov, or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Karen VanSickle, Clean Air Markets Division, Office of Air and Radiation, (6204M), Environmental Protection Agency, 1200 Pennsylvania Ave. NW, Washington, DC 20460; telephone number: 202-343-9220; fax number: 202-343-2361; email address: vansickle.karen@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The Acid Rain Program was established under Title IV of the 1990 Clean Air Act Amendments to address acid deposition by reducing emissions of sulfur dioxide (SO2) and nitrogen oxides (NOX). This ICR addresses the burden and costs associated with developing and modifying permits, complying with NOX permitting requirements, monitoring emissions, transferring allowances, participating in the annual allowance auctions, and participating in the program as an opt-in source.

Form Numbers: Agent Notice of Delegation #5900-172; Certificate of Representation #7610-1; General Account Form #7610-5; Allowance Transfer Form #7610-6; Retired Unit Exemption #7610-20; Allowance Deduction #7620-4; Acid Rain Permit Application #7610-16; Acid Rain NOX Compliance Plan #7610-28; Acid Rain NOX Averaging Plan #7610-29; New Unit Exemption #7610-19; Opt-In Permit Application #7610-26; Opt-In Utilization Report #7620-9; Letter of Credit #7610-7A; EPA Allowance Auctions—Additional Information for Certified Checks or Wire Transfers #7610-7; SO2 Allowance Offer Form #7610-8; Thermal Energy Plan #7610-27; Notification For Distribution of Proceeds From EPA Auctions #7610-11; Opt-In Reduction from Improved Efficiency Confirmation Report #7620-8; Thermal Energy Compliance Report #7620-10.

Respondents/affected entities: Electricity generating plants, industrial sources, and other persons.

Respondents' obligation to respond: Voluntary and mandatory (Clean Air Act sections 403, 407, 408, 410, 412, and 416).

Estimated number of respondents: 1,234 (total); includes 1,184 sources and 50 non-source entities participating in allowance trading activities.

Frequency of response: On occasion, quarterly, and annually.

Total estimated burden: 1,873,880 hours (per year). Burden is defined at 5 CFR 1320.03(b).

Total estimated cost: $276,159,952 (per year), includes $139,339,770 annualized capital or operation & maintenance costs.

Changes in Estimates: There is a decrease of 249,525 hours in the total estimated respondent burden compared with the ICR currently approved by OMB. The decrease is principally due to source retirements, which have both reduced the estimated overall number of affected sources and shifted the estimated mix of monitoring methodologies used. The other factors contributing to the decrease in burden are reductions in the estimated numbers of allowance transfer and deduction submissions, expected opt-in sources, and allowance auction bids.

Courtney Kerwin,
Director, Regulatory Support Division.

[FR Doc. 2018-24649 Filed 11-9-18; 8:45 am]

BILLING CODE 6560-50-P